DEPARTMENT OF THE INTERIOR

National Park Service

National Register of Historic Places; Notification of Pending Nominations and Related Actions

Nominations for the following properties being considered for listing or related actions in the National Register were received by the National Park Service before July 14, 2007.

Pursuant to § 60.13 of 36 CFR Part 60 written comments concerning the significance of these properties under the National Register criteria for evaluation may be forwarded by United States Postal Service, to the National Register of Historic Places, National Park Service, 1849 C. St., NW., 2280, Washington, DC 20240; by all other carriers, National Register of Historic Places, National Park Service, 1201 Eye St., NW., 8th floor, Washington, DC 20005; or by fax, 202-371-6447. Written or faxed comments should be submitted by August 15, 2007.

J. Paul Loether,
Chief, National Register of Historic Places/National Historic Landmarks Program.

ALABAMA

Jefferson County

Graymont School, (Civil Rights Movement in Birmingham, Alabama 1933-1979 MPS), 300 Eighth Ave. W, Birmingham, 07000838.

New Pilgrim Baptist Church, (Civil Rights Movement in Birmingham, Alabama 1933-1979 MPS), 903 Sixth Ave. S, Birmingham, 07000837.

ARIZONA

Maricopa County

Chandler High School, 350 N. Arizona Ave., Chandler, 07000836.

COLORADO

Routt County

Christian Science Society Building, 641 Oak St., Steamboat Springs, 07000839.

FLORIDA

Volusia County

Turnbull Canal System, (Archeological Resources of the 18th-Century Smyrnea Settlement of Dr. Andrew Turnbull MPS), Address Restricted, New Smyrna Beach, 07000840.

NORTH DAKOTA

Burke County

Metzger, William E., House, 112 Makee St., Portal, 07000841.

OREGON

Multnomah County

Costanzo Family House, 811 SW Broadway Dr., Portland, 07000842.

Tarpley, Louis and Bessie, House, 2520 NW. Westover Rd., Portland, 07000843.

VERMONT

Rutland County

Linden Terrace, 191 Grove St., Rutland, 07000844.

Scoville, Anthony, House, (International Style in Vermont MPS), Dawley Rd., Mount Holly, 07000845.

WEST VIRGINIA

Fayette County

Nuttallburg Coal Mining Complex and Town Historic District, WV 85/2, Edmonds, 07000846.

[FR Doc. E7-14688 Filed 7-30-07; 8:45 am]

BILLING CODE 4312-57-P